ENVIRONMENTAL PROTECTION AGENCY

[FRL OP-OFA-107]

Environmental Impact Statements; Notice of Availability

Responsible Agency: Office of Federal Activities, General Information 202-564-5632 or https://www.epa.gov/nepa.

Weekly receipt of Environmental Impact Statements (EIS)

Filed January 12, 2024 10 a.m. EST Through January 22, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240007, Revised Draft, USAF, CA, KC-46A Main Operating Base 5 Beddown, Comment Period Ends: 03/11/2024, Contact: Austin Naranjo 478-222-9225.

EIS No. 20240008, Final, USACE, FL, North of Lake Okeechobee Storage Reservoir Section 203 Study, Review Period Ends: 02/26/2024, Contact: Dr. Gretchen Ehlinger 904-232-1665.

EIS No. 20240009, Draft, NMFS, AK, Issuance of an Incidental Take Statement under the Endangered Species Act for Salmon Fisheries in Southeast Alaska Subject to the 2019 Pacific Salmon Treaty Agreement and Funding to the State of Alaska to Implement the 2019 Pacific Salmon Treaty Agreement, Comment Period Ends: 03/11/2024, Contact: Kelly Cates 907-586-7221.

EIS No. 20240010, Final, USFS, UT, Ashley National Forest Land Management Plan Revision, Review Period Ends: 02/26/2024, Contact: Anastasia Allen 406-270-9241.

EIS No. 20240011, Draft, USACE, CA, San Francisco Waterfront Coastal Flood Study, CA, Comment Period Ends: 03/29/2024, Contact: Melinda Fisher 918-669-7423.

EIS No. 20240012, Draft, NOAA, WA, Expenditure of Funds to Increase Prey Availability for Southern Resident Killer Whales, Comment Period Ends: 03/11/2024, Contact: Lance Kruzic 541-802-3728.

Amended Notice:

EIS No. 20230179, Third Draft Supplemental, USACE, CA, American River Common Features, 2016 Flood Risk Management Project, Sacramento, California Supplemental Environmental Impact Statement/Subsequent Environmental Impact Report XIV, Comment Period Ends: 02/23/2024, Contact: Guy Romine 916-496-4646.

Revision to FR Notice Published 12/22/2023; Extending the Comment Period from 02/05/2024 to 02/23/2024.

Dated: January 23, 2024.
Julie Smith,
Acting Director, NEPA Compliance Division, Office of Federal Activities.

[FR Doc. 2024-01591 Filed 1-25-24; 8:45 am]

BILLING CODE 6560-50-P